DEPARTMENT OF THE INTERIOR

National Park Service

60 Day Notice of Intention To Request Clearance of Collection of Information; Opportunity for Public Comment

AGENCY: National Park Service, Golden Gate National Recreation Area, Department of the Interior.

ACTION: Notice and request for comments.

SUMMARY: The Golden Gate National Recreation Area (GGNRA) is a national park which comprises over 76,000 acres of coastal lands spanning three California counties: Marin, San Francisco and San Mateo. GGNRA, in partnership with Marin County, is proposing to conduct survey interviews by telephone and intercept surveys in person to identify the market viability of alternative methods of getting visitors to five park sites in Marin County. Postcard mail-back surveys will also be used to determine the origin and destination (O-D) and other trip characteristics of people driving though the most congested local roads leading up to the park sites. The surveys will be conducted as part of a Comprehensive Transportation Management Plan for an area that includes Muir Woods, Muir Beach, Tennessee Valley, Stinson Beach and Mt. Tamalpais State Park. All but Mt. Tamalpais State Park are part of the GGNRA. The results of these surveys will be used to develop and test alternative plans for transit or shuttle services to one or more of the park sites or between park sites.

| Estimated numbers of: Responses | Estimated numbers of: Burden hours
Marin Parklands CTMP: Telephone Interviews | 800 | 200
Marin Parklands CTMP: Tourist Intercept Survey | 800 | 200
Marin Parklands CTMP: Postcard O-D Survey | 400 | 100
Total | 1,600 | 133

Under provisions of the Paperwork Reduction Act of 1995 and 5 CFR part 1320, Reporting and Record Keeping Requirements, the National Park Service (NPS) is soliciting comments on: (a) Whether the collection of information is necessary for such a reliable and valid market analyses and to support the proper performance of the functions of the GGNRA and Marin County in evaluating the best alternative operations in the interest of the government and the general public, including whether the information will have practical utility: (b) the accuracy of the NPS estimate of the burden of the collection of information, including the validity of the methodology and assumptions used; (c) the quality, utility, and clarity of the information to be collected; and (d) how to minimize the burden of the collection of information on those who are to respond, while maintaining an unbiased sample, including the use of appropriate automated, electronic, mechanical, or other forms of information technology.

DATES: Public comments will be accepted on or before March 26, 2001.

Send Comments to: GGNRA, Attn. Mike Savidge, Bay and Franklin St., Bldg. 201, Ft. Mason, San Francisco, CA 94123.

FOR FURTHER INFORMATION CONTACT: Mike Savidge at (415) 561-4725 or Jennifer Coile at (415) 561-4933.

SUPPLEMENTARY INFORMATION: Title: Scope of Work for Marin Parklands Comprehensive Transportation Management Plan.

Bureau Form Number: None.

OMB Number: To be requested.

Expiration Date of Approval: To be requested.

Type of Request: Request for new clearance.

Description of Need: The Metropolitan Transportation Commission (MTC) of the San Francisco Bay Area has identified updated data collection and surveys of this nature as critical to the foundation of improving alternative transportation access to GGNRA and state park sits in the Bay Area, and particularly to the feasibility of developing a potential shuttle service to park sites. GGNRA has also been identified as one of five national park demonstration sites to improve alternative transportation access through a coordinated program with the U.S. Department of Transportation (DOT) because of its over 15 million visitors per year. To support these efforts, GGNRA needs information to better develop ridership potential to alternate park sites, and to determine the specific market feasibility and operational plans for alternative modes of access to the Marin Parklands sites. Such a need was identified in a GGNRA Travel Study completed in 1977 and remains today. GGNRA and Marin County seek to acquire this information in order to plan for increasing alternative access modes to the five park sites and to reduce the congestion on the local roadway corridors to park sites that presently results in traffic delays for visitors and other residents.

Automated Data Collection: At the present time, there is no automated way to gather this information, since the information gathering process involves asking tourists and/or the general public to identify characteristics, use patterns, expectations, preferences and perceptions that are relevant to a study of alternative park access modes and services. Computerized responses could not be controlled for bias as intercept and random digit dialing surveys can be.

Description of Respondents: Intercept interviews will be conducted with a random sample of individuals who visit non-park sites in Marin or San Francisco Counties. Telephone surveys will be conducted with a random sample of residents of the Counties of Marin, San Francisco, Alameda and one or two other counties surrounding the Bay as yet unselected. The postcard O-D survey will be distributed to a random sample of drivers passing through the Tam Junction intersection.

Estimated Average Number of Respondents: 800 (completed telephone interviews); 400 (completed intercept interviews); 400 (completed postcard O-D surveys).

Estimated Average Number of Responses: Each respondent will respond only one time, so the number of responses will be the same as the number of respondents.

Estimated Average Burden Hours per Response: 15 minutes (telephone interviews); 15 minutes (intercept surveys); 5 minutes (postcard O-D survey).

Frequency of Response: 1 time per respondent.

Estimated Annual Reporting Burden: 333 hours.

Dated: January 17, 2001.
Leonard E. Stowe,
Information Collection Clearance Officer, WASO Administrative Program Center, National Park Service.

[FR Doc. 01-1878 Filed 1-22-01; 8:45 am]

BILLING CODE 4310-70-M